DEPARTMENT OF LABOR

Office of the Secretary

Submission for OMB Review: Comment Request

December 4, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Bureau of Labor Statistics (BLS), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of an existing OMB Control Number.

Title of Collection: Local Area Unemployment Statistics Program.

OMB Control Number: 1220-0017.

Affected Public: State, Local, and Tribal Governments.

Total Estimated Number of Respondents: 52.

Total Estimated Annual Burden Hours: 142,538.

Total Estimated Annual Costs Burden: $0.

Description: The Manual provides the theoretical basis and essential technical instructions and guidance which States require to prepare State and area labor force estimates, while the reports ensure and/or measure the timeliness, quality, consistency, and adherence to Local Area Unemployment Statistics (LAUS) program directives and research. For additional information, see related notice published at 73 FR 51532 on September 3, 2008.

Agency: Bureau of Labor Statistics.

Type of Review: Extension without change of an existing OMB Control Number.

Title of Collection: Mass Layoff Statistics Program.

OMB Control Number: 1220-0090.

Affected Public: Not-for-profit institutions; businesses or other for-profits; State, Local, and Tribal Governments.

Total Estimated Number of Respondents: 14,053.

Total Estimated Annual Burden Hours: 67,213.

Total Estimated Annual Costs Burden: $0.

Description: The information collected and compiled in the Mass Layoff Statistics (MLS) program is used to satisfy the legislatively required reporting mandated by Clause (iii) of Section 309(2)(15)(a)(1)(A) of the Workforce Investment Act which states that the Secretary of Labor shall oversee the development, maintenance, and continuous improvements of the incidence of, industrial and geographical location of, and number of workers displaced by, permanent layoffs and plant closings. For additional information, see related notice published at 73 FR 51317 on September 2, 2008.

Darrin A. King,
Departmental Clearance Officer.

[FR Doc. E8-29232 Filed 12-9-08; 8:45 am]

BILLING CODE 4510-24-P